ENVIRONMENTAL PROTECTION AGENCY

[EPA-HQ-OW-2006-0486; FRL-8234-4]

Agency Information Collection Activities: Submission to OMB for Review and Approval; Comment Request; 2007 Drinking Water Infrastructure Needs Survey and Assessment; Agency Information Collection; EPA ICR No. 2234.01; OMB Control No. 2040-NEW

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before November 24, 2006.

ADDRESSES: Submit your comments, referencing Docket ID No. EPA-HQ-OW-2006-0486, to (1) EPA online using http://www.regulations.gov (our preferred method), by e-mail to barles.robert@epa.gov or by mail to: Water Docket, EPA Docket Center (EPA/DC), U.S. Environmental Protection Agency, Mailcode: 4101T, 1200 Pennsylvania Avenue NW., Washington, DC 20460, and (2) OMB by mail to: Office of Information and Regulatory Affairs, Office of Management and Budget (OMB), Attention: Desk Officer for EPA, 725 17th Street, NW., Washington, DC 20503.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations and telephone numbers. The Docket Center's mailing address for U.S. mail and the procedure for submitting comments to www.regulations.gov are not affected by the flooding and will remain the same.

FOR FURTHER INFORMATION CONTACT: Robert Barles, Office of Ground Water and Drinking Water (4606M) Environmental Protection Agency, 1200 Pennsylvania Ave., NW., Washington, DC 20460; telephone number: (202) 564-3814; fax number: (202) 564-3757; e-mail address: barles.robert@epa.gov.

SUPPLEMENTARY INFORMATION: EPA has submitted the following ICR to OMB for review and approval according to the procedures prescribed in 5 CFR 1320.12. On June 5, 2006 (71 FR 32344), EPA sought comments on this ICR pursuant to 5 CFR 1320.8(d). EPA received 1 comment during the comment period, which is addressed in the ICR. Any additional comments on this ICR should be submitted to EPA and OMB within 30 days of this notice.

EPA has established a public docket for this ICR under Docket ID No. EPA-HQ-OW-2006-0486, which is available for online viewing at http://www.regulations.gov, or in person viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: 2007 Drinking Water Infrastructure Needs Survey and Assessment.

ICR numbers: EPA ICR No. 2234.01; OMB Control No. 2040-new.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The purpose of this information collection is to identify the infrastructure needs of community public water systems for the 20-year period from January 2007 through December 2027. EPA's Office of Ground Water and Drinking Water (OGWDW) will collect these data to comply with Sections 1452(h) and 1452(i)(4) of the Safe Drinking Water Act (42 U.S.C. 300j-12). EPA will use a questionnaire to collect capital investment need information from large (serving more than 100,000 people) and medium (serving more than 3,300 people but less than 100,000) community water systems. The questionnaire will also be used by EPA survey teams in visits to 400 to 600 statistically-selected small (serving less than 3,300 people) community water systems to ascertain their infrastructure needs. Participation in the survey is voluntary. The data from the questionnaires will provide EPA with a basis for estimating the nationwide infrastructure needs of community water systems. Also, as mandated by Section 1452(a)(1) (D)(ii) of the Safe Drinking Water Act, EPA uses the results of the latest survey to allocate Drinking Water State Revolving Fund (DWSRF) monies to the States. Under the allotment formula, each State receives a grant of the annual DWSRF appropriation in proportion to its share of the total national need—with the proviso that each State receives at least 1 percent of the total funds available.

Burden Statement: The annual public reporting and recordkeeping burden for this collection of information is estimated to average 7.62 hours per response for Local Government Owned Water Systems; 5.68 hours per response for Privately Owned Water Systems; 6.72 hours per response for State Government Owned Water Systems; and 18.7 hours per response for State and U.S. Territories Water Agencies. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Local Government Owned Water Systems, Privately Owned Water Systems, State Government Owned Water Systems, and State and U.S. Territories Water Agencies.

Estimated Number of Respondents: 3,193.

Frequency of Response: 0.33 times per year.

Estimated Total Annual Hour Burden: 15,343.

Estimated Total Annual Cost: $513,462 includes $0 annualized capital or O&M costs.

Dated: October 18, 2006.
Rick Westlund,
Acting Director, Collection Strategies Division.

[FR Doc. E6-17877 Filed 10-24-06; 8:45 am]

BILLING CODE 6560-50-P